TENNESSEE VALLEY AUTHORITY

Meeting of the Regional Resource Stewardship Council and the Regional Energy Resource Council

AGENCY: Tennessee Valley Authority (TVA).

ACTION: Notice of meeting.

SUMMARY: The TVA Regional Resource Stewardship Council (RRSC) and the Regional Energy Resource Council (RERC) will hold a virtual meeting on Tuesday, December 1, 2020, to discuss and seek advice about TVA's 2019 Sustainability Report.

DATES: The meeting will be held on Tuesday, December 1, 2020, from 9:30 a.m. to 1:00 p.m. EST.

ADDRESSES: The meeting is virtual and open to the public. Public members must preregister at the following link: http://bit.ly/RERC-RRSC-SR. Any member of the public attending must indicate their preference, when registering, to view the RRSC Advice or the RERC Advice sessions. Anyone needing special accommodations should let the contact below know at least a week in advance.

FOR FURTHER INFORMATION CONTACT: Cathy Coffey, ccoffey@tva.gov or 865/632-4494.

SUPPLEMENTARY INFORMATION: The RRSC was established to advise TVA on its natural resource and stewardship activities, and the priorities among competing objectives and values. The RERC was established to advise TVA on its energy resource activities, and the priorities among competing objectives and values. Notice of this meeting is given under the Federal Advisory Committee Act (FACA), 5 U.S.C. App.2. While sustainability and integrated planning have always been part of its mission, TVA gathered this information in one report in 2019. (www.tva.com/environment/environmental-stewardship/sustainability/sustainability-report). This 2019 Sustainability Report serves as the baseline for TVA's sustainability work. At the meeting on December 1, 2020, the RRSC and RERC will discuss and provide advice about how TVA's sustainability initiatives can be further refined from the baseline reflected in the 2019 report.

The meeting agenda includes the following:

1. Welcome and Introductions

2. Presentation Regarding TVA's Sustainability Program and Report

3. Councils Discussion

4. Councils Advice

No public comment session will be held at the meeting, but written comments on the 2019 Sustainability Report are invited. Written comments must be emailed to ccoffey@tva.gov or dlmurray@tva.gov no later than November 29, 2020.

Dated: November 5, 2020.
Joseph J. Hoagland,
Vice President, Innovation and Research, Tennessee Valley Authority.

[FR Doc. 2020-25152 Filed 11-12-20; 8:45 am]

BILLING CODE 8120-08-P